DEPARTMENT OF THE TREASURY

Special Inspector General for Troubled Asset Relief Program; Delegation of Authorities

AGENCY: Office of the Special Inspector General of the Troubled Asset Relief Program, Treasury.

ACTION: Notice of delegation of authorities.

SUMMARY: This notice the delegates the authority of the Special Inspector General of the Office of the Inspector General of the Troubled Asset Relief Program (SIGTARP) to issue subpoenas to the SIGTARP Chief of Staff, SIGTARP Deputy Inspector General for Audit, SIGTARP Deputy Inspector General for Investigation, and SIGTARP Chief Counsel. This notice also delegates to the SIGTARP Chief of Staff, SIGTARP Deputy Inspector General for Investigation, and SIGTARP Chief Counsel, the authority of the Special Inspector General to request information under 5 U.S.C. 552a(b)(7).

DATES: Effective Date: April 27, 2009.

FOR FURTHER INFORMATION CONTACT: Bryan Saddler, Chief Counsel, SIGTARP, at (202) 927-8938.

SUPPLEMENTARY INFORMATION: The Emergency Economic Stabilization Act of 2008 (ESSA), Public Law 110-343, created SIGTARP at section 121. Section 121(d)(1) of EESA endows the Special Inspector General with the authorities set forth at section 6 of the Inspector General Act of 1978, as amended (the Act), 5 U.S.C. App. 3. Section 6(a)(4) of the Act authorizes the Special Inspector General to require by subpoena the production of all information, documents, reports, answers, records, accounts, papers, and other data and documentary evidence deemed necessary in the performance of the Special Inspector General's function. This notice delegates this authority to issue subpoenas from the Special Inspector General to the SIGTARP Chief of Staff, SIGTARP Deputy Inspector General for Audit, SIGTARP Deputy Inspector General for Investigation, and SIGTARP Chief Counsel.

Section 552a(b)(7) of Title 5, United States Code, authorizes the Special Inspector General to request information protected by the Privacy Act for a civil or criminal law enforcement activity. This notice delegates this authority to request records protected by the Privacy Act for a civil or criminal law enforcement activity from the Special Inspector General to the SIGTARP Chief of Staff, SIGTARP Deputy Inspector General for Investigation, and SIGTARP Chief Counsel.

The Special Inspector General has not limited his authority to issue subpoenas or to request information under 5 U.S.C. 552a by this delegation. Also, this delegation expressly prohibits further delegation or redelegation.

Accordingly, the Special Inspector General delegates the following authorities:

Section A. Authority Delegated: The SIGTARP Special Inspector General delegates to the SIGTARP Chief of Staff, SIGTARP Deputy Inspector General for Audit, SIGTARP Deputy Inspector General for Investigation, and SIGTARP Chief Counsel, the authority to require by subpoena the production of all information, documents, reports, answers, records, accounts, papers, and other data and documentary evidence necessary in the performance of the functions assigned by EESA.

Additionally, the Special Inspector General delegates to the SIGTARP Chief of Staff, SIGTARP Deputy Inspector General for Investigation, and SIGTARP Chief Counsel, the authority to request information under 5 U.S.C. 552a(b)(7).

Section B. No Further Delegation or Redelegation: The authority delegated in Section A above may not be further delegated or redelegated.

Authority: Public Law 110-343, § 121; 5 U.S.C. App. 3 § 6(a)(4); 5 U.S.C. 301.

Neil M. Barofsky,
Special Inspector General.

[FR Doc. E9-9481 Filed 4-24-09; 8:45 am]

BILLING CODE 4810-25-P